FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

A Shipping (NVO), 4728 Ivar Avenue, Rosemead, CA 91770. Officers: Tuong Q. Lam, CEO, (Qualifying Individual), Young H. Lam, Treasurer. Application Type: New NVO License.

Aerocosta Global Group, Inc. dba Aerocosta Global Systems Inc. (NVO), 2463 208th Street, #205, Torrance, CA 90501. Officers: Hwa S. Kil, Secretary, (Qualifying Individual), Darren Kim, President/Treasurer. Application Type: New NVO License.

Atlantic Cargo Logistics LLC (OFF & NVO), 120 South Woodland Blvd., #216, Deland, FL 32720. Officers: Dietmar Lutte, Manager, (Qualifying Individual) Susan Lutte, Member, Application Type: New OFF & NVO License.

Direct Delivery Logistics and Supply, LLC (OFF & NVO) 2006 Wilson Road, Humble, TX 77396. Officers: Carolyn Foss, President, (Qualifying Individual) Michael Henley, Executive Vice President. Application Type: New OFF & NVO License.

EC Logistics LLC (OFF & NVO), 800 S. Pacific Coast Highway, Suite 8406, Redondo Beach, CA 90277. Officers: Li Mei, Manager, (Qualifying Individual), E (Grace) J. Bo, Member Manager. Application Type: New OFF & NVO License.

Express Northwest International Freight Services Inc. (OFF), 18335 8th Avenue South, Seattle, WA 98148. Officers: Rosemary Weber, Vice President, (Qualifying Individual), Kathleen A. McLean, President. Application Type: New OFF License.

GAC Energy & Marine Services LLC (OFF), 16607 Central Green Blvd., Suite 200, Houston, TX 77032. Officers: Yalonda R. Henderson, Director, (Qualifying Individual), Walter Bandos, CEO. Application Type: New OFF License.

Gilscot-Guidroz International Company, Inc. dba Guidroz, International Transport (OFF & NVO), 409 Sala Avenue, Westwego, LA 70094. Officers: Keith R. Guidroz, Sr., President, (Qualifying Individual), Earline Vlois, Vice President. Application Type: Business Structure Change.

Hemarc Forwarders, Inc. (OFF & NVO), 8450 NW 68th Street, #1, Miami, FL 33166. Officers: Hedda Bronquete, Vice President/Secretary/Treasurer, (Qualifying Individual), Marcelo Bronquete, President. Application Type: Add OFF Service.

Innovative Transport Solutions, LLC (OFF & NVO), 755 North Busse Highway, Suite 217, Bensenville, IL 60106. Officer: Paul J. Gibbs, Managing Member, (Qualifying Individual). Application Type: New OFF & NVO License.

Lupprian's Cargo Express, Inc. (OFF & NVO), 700 Nicholas Blvd., Suite 401, Elk Grove Village, IL 60007. Officers: Teresa Chow, President, (Qualifying Individual), Jean Tipsword, Secretary. Application Type: New OFF & NVO License.

Milam Freight and Logistics, Inc (OFF & NVO), 3918 Tree Top Drive, Weston, FL 33332. Officers: Graeme W. Rodriquez, President, (Qualifying Individual). Wendy A. Rodriquez, Manager. Application Type: License Transfer.

OHL Solutions Inc. dba Activsea USA (NVO), 147-80 184th Street, Jamaica, NY 11413, Officers: Joseph Kronenberger, Vice President, (Qualifying Individual). Scott McWilliams, CEO. Application Type: Business Structure Change.

Reefco Logistics, Inc. dba Reefco Transport dba Foodcareplus (OFF & NVO), 314-021 W. Millbrook Road, Raleigh, NC 27609. Officer: Ernest H. Beauregard, President, (Qualifying Individual). Application Type: Trade Name Change.

Ruky International Company (NVO), 149 Isabelle Street, Metuchen, NJ 08840. Officers: Bharti Parmar, Corporate Officer, (Qualifying Individual), Amarasena A. Rupasinghe, President. Application Type: QI Change.

Silver Brilliant Logistic Inc. (NVO), 9471 Cortada Street, #G, El Monte, CA 91733. Officer: Linh P. Vien, CEO/Treasurer/Secretary/Chairman, (Qualifying Individual). Application Type: New NVO License.

TMO Global Logistics, LLC (OFF & NVO), 200 Garrett Street, Suite M, Charlottesville, VA 22902. Officer: Thomas Baldwin, Managing Director, (Qualifying Individual). Application Type: QI Change.

Trans-Net, Inc. dba Trans-Net dba Hospitality Logistics International (Off & NVO), 710 N.W. Juniper Street, Suite 100, Issaquah, WA 98027. Officers: Peter Moe, Jr., President, (Qualifying Individual). Barbara M. Moe, Secretary. Application Type: Trade Name Change.

Trident Transport Group, LLC (OFF), 15810 SW Sundew Drive, Tigard, OR 97223. Officer: Matt W. Loutzenhiser, Manager, (Qualifying Individual). Application Type: New OFF License.

U & S Shipping, Inc. (OFF & NVO), 112 Philadelphia Way, Winter Springs, FL 32708. Officer: Mohammed A. Haseeb, President, (Qualifying Individual). Application Type: Add NVO Service.

Wal-Trans Logistics Inc. (NVO), One Cross Island Plaza, Suite 121, Rosedale, NY 11422. Officer: Wing Fung Chan, President/VP/Secretary/Treasurer, (Qualifying Individual). Application Type: New NVO License.

Dated: May 21, 2010.
Karen V. Gregory,
Secretary.

[FR Doc. 2010-12674 Filed 5-25-10; 8:45 am]

BILLING CODE P